CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled AmeriCorps Child Care Program Information Collection for review and approval in accordance with the Paperwork Reduction Act of 1995, Public Law 104-13, (44 U.S.C. Chapter 35). Copies of this ICR, with applicable supporting documentation, may be obtained by calling the Corporation for National and Community Service, Jennifer Veazey, at 202-606-6770 or email to jveazey@cns.gov. Individuals who use a telecommunications device for the deaf (TTY-TDD) may call 1-800-833-3722 between 8:00 a.m. and 8:00 p.m. Eastern Time, Monday through Friday.

DATES: Comments may be submitted, identified by the title of the information collection activity, within September 8, 2015.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on April 15, 2015 at Volume 80, No. 72 FR 20200. This comment period ended June 15, 2015. No public comments were received from this Notice.

Description

The information collection is requested of AmeriCorps Members who are applying for the AmeriCorps Child Care benefit (or in some cases, member of their households); information collected is used to determine a member's eligibility based upon statutory, regulatory, and program eligibility requirements. In addition, the information collection is requested of the child care providers to determine a child care provider's eligibility to provide the child care service.

Information is collected via hardcopy and electronically through an online application system.

CNCS seeks to renew the current AmeriCorps Child Care Application and add four new instruments: the AmeriCorps Member Application, Attendance Sheet, Member Update Form, and Statement of Work Activities.

The information collection will otherwise be used in the same manner as the existing application.

Type of Review: Renewal.

Agency: Corporation for National and Community Service.

Title: AmeriCorps Child Care Program Forms.

OMB Number: 3045-0142.

Agency Number: None.

Affected Public: AmeriCorps Members and Child Care Providers.

Total Respondents: 1400 total: 700 AmeriCorps Members and 700 Child Care Providers.

Frequency: Annual.

Average Time Per Response

AmeriCorps Member Application: 60 minutes.

Member Update Form: 5 minutes.

Statement of Work Activities Form (completed by Member): 10 minutes.

AmeriCorps Child Care Provider Application: 40 minutes.

Attendance Sheet (completed by Provider and signed by Member): 20 minutes.

Estimated Total Burden Hours: 1,575 hours.

Total Burden Cost (capital/startup): None.

Total Burden Cost (operating/maintenance): None.

Dated: August 3, 2015.
Erin Dahlin,
Deputy Chief of Program Operations.

[FR Doc. 2015-19371 Filed 8-6-15; 8:45 am]

BILLING CODE 6050-28-P